ENVIRONMENTAL PROTECTION AGENCY

[EPA-HQ-OARM-2016-0762; FRL-12004-01-OMS]

Agency Information Collection Activities; Submission to the Office of Management and Budget for Review and Approval; Comment Request; General Administrative Requirements for Assistance Programs (Renewal)

AGENCY: Environmental Protection Agency (EPA).

ACTION: Notice.

SUMMARY: The Environmental Protection Agency (EPA) has submitted an information collection request (ICR), General Administrative Requirements for Assistance Programs (EPA ICR Number 0938.23, OMB Control Number 2030-0020) to the Office of Management and Budget (OMB) for review and approval in accordance with the Paperwork Reduction Act. This is a proposed extension of the ICR, which is currently approved through June 30, 2024. Public comments were previously requested via the Federal Register on September 28, 2023 during a 60-day comment period. This notice allows for an additional 30 days for public comments.

DATES: Comments may be submitted on or before June 28, 2024.

ADDRESSES: Submit your comments, referencing Docket ID Number EPA-HQ-OARM-2016-0762 to EPA online using www.regulations.gov (our preferred method), by email to docket_oms@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Amanda Kemp, Office of Grants and Debarment, National Policy, Training and Compliance Division, 3903R, Environmental Protection Agency, 1200 Pennsylvania Ave. NW, Washington, DC 20460; telephone number: 202-564-0209; fax number: 202-565-2470; email address: kemp.amanda@epa.gov.

SUPPLEMENTARY INFORMATION: This is a proposed extension of the ICR, which is currently approved through June 30, 2024. An agency may not conduct or sponsor and a person is not required to respond to a collection of information unless it displays a currently valid OMB control number.

Public comments were previously requested via the Federal Register on September 28, 2023 during a 60-day comment period (88 FR 66840). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The information is collected from applicants and recipients of EPA assistance to monitor adherence to the programmatic and administrative requirements of the Agency's financial assistance program. The information collected is used to make awards, pay recipients, and collect information on how Federal funds are being spent. EPA needs this information to meet its Federal stewardship responsibilities. This ICR renewal requests authorization for the collection of information under EPA's General Regulation for Assistance Programs, which establishes minimum management requirements for all recipients of EPA grants or cooperative agreements (assistance agreements). These regulations include only those provisions mandated by statue or added by EPA to ensure sound and effective financial assistance management with respect to Disadvantaged Business Enterprise (DBE) utilization. The information required by these regulations will be used by EPA award officials to make assistance awards and assistance payments and to verify that the recipient is using Federal funds appropriately.

Form numbers: listed in supporting statement.

Respondents/affected entities: The primary recipients of EPA assistance agreements are state and local governments, Indian Tribes, educational institutions, and not-for-profit institutions.

Respondent's obligation to respond: Required to obtain an assistance agreement (40 CFR part 30, 40 CFR part 31, and 40 CFR part 33 for awards made prior to December 26, 2014, and 2 CFR 200, 2 CFR 1500, and 40 CFR part 33 for awards made after December 26, 2014).

Estimated number of respondents: 9,821(total).

Frequency of response: On occasion, quarterly, and annually.

Total estimated burden: 302,030 hours (per year). Burden is defined at 5 CFR 1320.03(b).

Total estimated cost: $19,719,538 (per year), which includes $0 annualized capital or operation & maintenance costs.

Changes in the estimates: There is an increase of 207,424 hours in the total estimated respondent burden compared with the ICR currently approved by OMB. This increase occurred for several reasons. First, EPA received unprecedented levels of funding to award grants under the American Rescue Plan (ARP), the Bipartisan Infrastructure Bill (BIL), and the Inflation Reduction Act (IRA). This led to a significant increase in number of grant applications received and awards made under various EPA grant programs. EPA also revised its approach to more accurately estimate the number of ongoing grant recipients who are subject to the requirements for record keeping and submittal of quarterly progress reports. In addition, EPA reviewed the burden assumptions in the ICR to ensure that they reflect the Agency's current experiences under its grant programs. EPA made adjustments to increase the burden hour estimates for three of the requirements based on consultations with grant recipients.

Courtney Kerwin,
Director, Regulatory Support Division.

[FR Doc. 2024-11764 Filed 5-28-24; 8:45 am]

BILLING CODE 6560-50-P